DEPARTMENT OF AGRICULTURE

Submission for OMB Review; Comment Request

June 17, 2021.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by July 23, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Small Business Timber Set-Aside Program: Appeal Procedures on Recomputation of Shares.

OMB Control Number: 0596-0141.

Summary of Collection: The Forest Service (FS) administers the Small Business Timber Sale Set-Aside Program in cooperation with the Small Business Administration (SBA) under the authorities of the Small Business Act (15 U.S.C. 631), which establishes Federal policy regarding assistance provided to small businesses; the National Forest Management Act of 1976; the Administrative Procedures Act (5 U.S.C. 522); and SBA's regulations found at 13 CFR part 121. The Set-Aside Program is designed to ensure that qualifying small business manufacturers can purchase a fair portion of National Forest System sawtimber offered for sale.

Need and Use of the Information: Under the program, the FS must re-compute the shares of timber sales to be set aside for qualifying small businesses every five years based on the actual volume of sawtimber purchased by small businesses. Re-computation of shares must occur if there is a change in manufacturing capability, if the purchaser size class changes, or if certain purchaser(s) discontinue operations. The appeal information is collected in writing and is possible, in most locations to be sent via email and attached documents to a Forest Service Officer. The collected information is reviewed by FS officials who use the information to render decisions related to re-computations of timber sale share to be set-aside for small business timber purchasers.

Description of Respondents: Business or other for-profit.

Number of Respondents: 40.

Frequency of Responses: Reporting: On occasion.

Total Burden Hours: 800.

Levi S. Harrell,
Departmental Information Collection Clearance Officer.

[FR Doc. 2021-13171 Filed 6-22-21; 8:45 am]

BILLING CODE 3411-15-P